FEDERAL ELECTION COMMISSION

Sunshine Act Meeting

Time and Date: Tuesday, August 7, 2018 at 10:00 a.m.

Place: 1050 First Street NE, Washington, DC

Status: This meeting will be closed to the public.

Matters to be Considered: Compliance matters pursuant to 52 U.S.C. 30109.

Matters relating to internal personnel decisions, or internal rules and practices.

Information the premature disclosure of which would be likely to have a considerable adverse effect on the implementation of a proposed Commission action.

Matters concerning participation in civil actions or proceedings or arbitration.

* * * * *

CONTACT PERSON FOR MORE INFORMATION: Judith Ingram, Press Officer, Telephone: (202) 694-1220.

Dayna C. Brown,
Secretary and Clerk of the Commission.

[FR Doc. 2018-16700 Filed 7-31-18; 4:15 pm]

BILLING CODE 6715-01-P